DEPARTMENT OF COMMERCE

National Oceanic and Atmospheric Administration

50 CFR Part 648

[Docket No. 120731291-2522-02]

RIN 0648-XD167

Fisheries of the Northeastern United States; Atlantic Mackerel, Squid, and Butterfish Fisheries; Butterfish Trip Limit Reduction

AGENCY: National Marine Fisheries Service (NMFS), National Oceanic and Atmospheric Administration (NOAA), Commerce.

ACTION: Temporary rule; inseason action.

SUMMARY: NMFS announces that the butterfish trip limit for longfin squid/butterfish moratorium permit holders will be reduced to no more than 5,000 lb (2.27 mt), effective 0001 hours, March 18, 2014. Vessels issued a Federal longfin squid/butterfish moratorium permit and using greater than 3-inch (76-mm) mesh may not fish for, catch, possess or land more than 5,000 lb (2.27 mt) of butterfish per trip or calendar day for the remainder of the year (through December 31, 2014). The possession limit remains unchanged at 2,500-lb (1.13 mt) per trip or calendar day for vessels issued a Federal longfin squid/butterfish moratorium permit and fishing with less than 3-inch (76-mm). The incidental possession limit also remains unchanged at 600 lb (0.27 mt). Federally permitted dealers also may not purchase more than 5,000 lb (2.27 mt) of butterfish from federally permitted vessels per trip or per day, through December 31, 2014. This action is necessary to prevent the fishery from exceeding the domestic annual harvest (DAH) of 2,570 mt, and to allow for effective management of this stock.

DATES: Effective 0001 hours, March 18, 2014, through 2400 hours, December 31, 2014.

FOR FURTHER INFORMATION CONTACT: Aja Szumylo, Fishery Policy Analyst, 978-281-9195, Fax 978-281-9135.

SUPPLEMENTARY INFORMATION: Regulations at 50 CFR part 648 govern the butterfish fishery. The regulations require specifications for maximum sustainable yield, initial optimum yield, allowable biological catch, annual catch limit (ACL), domestic annual harvest (DAH), domestic annual processing (DAP), joint venture processing, and total allowable levels of foreign fishing for the species managed under the Atlantic Mackerel, Squid, and Butterfish (MSB) Fishery Management Plan (FMP). The procedures for setting the annual initial specifications are described in § 648.22. The 2013 MSB specifications set the 2013 butterfish DAH at 2,570 mt (77 FR 3346, January 16, 2013). The regulations at § 648.22(d) state that, if annual specifications for the MSB fisheries are not published in the Federal Register prior to the start of the fishing year (January 1), the previous year's annual specifications, will remain in effect. A proposed rule for 2014 MSB specifications and management measures was published on January 10, 2014 (79 FR 1813), and the public comment period for the proposed rule ended on February 10, 2014. A final rule is expected shortly, after which the 2014 specifications will go into effect and supersede the 2013 specifications.

Due to the increase in the butterfish DAH from previous years, the 2013 MSB specifications implemented a 3-phase butterfish management system to allow for maximum utilization of the butterfish resource without exceeding the stock-wide ACL. In phase 1, there is no trip limit for vessels issued longfin squid/butterfish moratorium permits using mesh greater than or equal to 3 inches (76 mm), a 2,500-lb (1.13-mt) trip limit for longfin squid/butterfish moratorium permits using mesh less than 3 inches (76 mm), and a trip limit of 600 lb (0.27 mt) for vessels issued squid/butterfish incidental catch permits. Once butterfish harvest reaches the trip hold reduction threshold to move from phase 1 to phase 2, the trip limit for longfin squid/butterfish moratorium permit holders will be reduced while in phase 2 to 5,000 lb (2.27 mt) for vessels using greater than or equal to 3-inch (7.62 cm) mesh. The limit remains unchanged at 2,500-lb (1.13 mt) per trip or calendar day for vessels issued a Federal longfin squid/butterfish moratorium permits and fishing with less than 3-inch (76-mm); and the incidental limit remains at 600 lb (0.27 mt). When we project butterfish harvest to reach the trip hold reduction thresholds to move from phase 2 to phase 3, the trip limit for all longfin squid/butterfish moratorium permit holders will be reduced while in phase 3 to 500 lb (0.23 mt) to avoid quota overages. For phases 2 and 3, the quota thresholds to reduce the trip limits will vary bimonthly throughout the year.

Section 648.24 requires NMFS to reduce the butterfish trip limits for vessels issued longfin squid/butterfish moratorium permits when butterfish harvest reaches the trip limit reduction threshold to move from phase 1 to phase 2. When butterfish harvest reaches the trip limit reduction threshold to move from phase 1 to phase 2, vessels fishing with a minimum mesh size of 3 inches (76 mm) are prohibited from fishing for, catching, possessing, or landing more than 5,000 lb (2.27 mt) per trip or per day. Trip limits for vessels issued longfin squid/butterfish moratorium permits fishing with mesh less than 3 inches (76 mm) remain at 2,500 lb (1.13 mt) of butterfish per trip, and the incidental trip limit remains at 600 mt (0.27 lb).

NMFS is further required to notify the Executive Directors of the Mid-Atlantic, New England, and South Atlantic Fishery Management Councils; mail notification of the trip limit reduction to all holders of butterfish permits at least 72 hr before the effective date of the trip limit reduction; provide adequate notice of the trip limit reduction to recreational participants in the fishery; and publish notification of the trip limit reduction in the Federal Register.

The Administrator, Greater Atlantic Region, NMFS, based on dealer reports and other available information, has determined that butterfish harvest has reached the phase 2 trip limit reduction of 47 percent. Therefore, effective 0001 hours, March 18, 2014, the directed butterfish fishery is operating under phase 2, and vessels issued Federal longfin squid/butterfish moratorium permits may not fish for, catch, possess or land more than 5,000 lb (2.27 mt) of butterfish per trip or calendar day when fishing with mesh size greater than 3 inches (76 mm). Trip limits for vessels issued longfin squid/butterfish moratorium permits fishing with mesh less than 3 inches (76 mm) will remain at 2,500 lb (1.13 mt) of butterfish per trip and the incidental trip limit will remain at 600 lb (0.27 mt). If or when butterfish harvest is projected to reach the phase 3 trip limit reduction threshold specified for 2013, butterfish trip limits for longfin squid/butterfish moratorium permit holders will be reduced to 500 lb (0.23 mt), regardless of mesh size used, through a subsequent action in the Federal Register.

Classification

This action is required by 50 CFR part 648, and is exempt from review under Executive Order 12866.

The Assistant Administrator for Fisheries, NOAA (AA), finds good cause pursuant to 5 U.S.C. 553(b)(B) to waive prior notice and the opportunity for public comment because it would be contrary to the public interest. This action reduces the butterfish trip limit for vessels issued longfin squid/butterfish moratorium permits, under current regulations. The regulations at § 648.24 require such action to ensure that butterfish vessels do not exceed the 2013 DAH. Data indicating the butterfish fleet will have landed at least 50 percent of the 2013 DAH have only recently become available. If NMFS delays the implementation of this trip limit reduction in order to solicit prior public comment, butterfish harvest may continue to increase without sufficient effort control, thereby undermining the conservation objectives of the FMP. The AA further finds, pursuant to 5 U.S.C. 553(d)(3), good cause to waive the 30-day delayed effectiveness period for the reasons stated above.

Authority: 16 U.S.C. 1801 et seq.

Dated: March 13, 2014.
Emily H. Menashes,
Acting Director, Office of Sustainable Fisheries, National Marine Fisheries Service.

[FR Doc. 2014-05920 Filed 3-13-14; 4:15 pm]

BILLING CODE 3510-22-P